NUCLEAR REGULATORY COMMISSION

[Docket No. 55-71371-SP; ASLBP No. 16-947-01-SP-BD01]

Alexander Abrahams; Establishment of Atomic Safety and Licensing Board

Pursuant to delegation by the Commission, see 37 FR 28,710 (Dec. 29, 1972), and the Commission's regulations, see, e.g.,10 CFR 2.103(b), 2.300, 2.309, 2.313(a), 2.318, 2.321, notice is hereby given that an Atomic Safety and Licensing Board (Board) is being established to preside over the following proceeding:

Alexander Abrahams (Denial of Reactor Operator License)

This proceeding concerns a demand for hearing pursuant to 10 CFR 2.103(b)(2) from Alexander Abrahams challenging a May 5, 2016 letter from the Nuclear Regulatory Commission that denied his application for a reactor operator license for the Reed College Reactor Facility.

The Board is comprised of the following administrative judges:

Paul S. Ryerson, Chair, Atomic Safety and Licensing Board Panel, U.S. Nuclear Regulatory Commission, Washington, DC 20555-0001

E. Roy Hawkens, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Issued at Rockville, Maryland, this 13th day of June 2016.
E. Roy Hawkens,
Chief Administrative Judge, Atomic Safety and Licensing Board Panel.

[FR Doc. 2016-14363 Filed 6-16-16; 8:45 am]

BILLING CODE 7590-01-P